ENVIRONMENTAL PROTECTION AGENCY

40 CFR Part 63

[EPA-HQ-OAR-2013-0696; FRL-9950-26-OAR]

RIN 2060-AS86

Technical Amendments to Performance Specification 18 and Procedure 6

AGENCY: Environmental Protection Agency (EPA).

ACTION: Partial withdrawal of direct final rule.

SUMMARY: Because the Environmental Protection Agency (EPA) received adverse comment, we are withdrawing a portion of the May 19, 2016, direct final rule that made several minor technical amendments to the performance specifications and test procedures for hydrogen chloride (HCl) continuous emission monitoring systems (CEMS). The adverse comments related to revisions to Procedure 6 and thus the EPA is withdrawing the portion of the direct final rule that revised Procedure 6.

DATES: Effective August 8, 2016, the EPA withdraws the revisions to Procedure 6, sections 4.1.5, 4.1.5.1, 4.1.5.3, and 5.2.4.2, published at 81 FR 31515, on May 19, 2016.

FOR FURTHER INFORMATION CONTACT: Ms. Candace Sorrell, U.S. EPA, Office of Air Quality Planning and Standards, Air Quality Assessment Division, Measurement Technology Group (Mail Code: E143-02), Research Triangle Park, NC 27711; telephone number: (919) 541-1064; fax number: (919) 541-0516; email address: sorrell.candace@epa.gov.

SUPPLEMENTARY INFORMATION: On May 19, 2016, the EPA published a direct final rule that makes minor technical amendments to the performance specifications and test procedures for hydrogen chloride (HCl) continuous emission monitoring systems (CEMS). 81 FR 31515. In the direct final rule, the EPA stated that if we received adverse comment by July 5, 2016, the EPA would publish a timely withdrawal and address the comments in a subsequent final rule based on the proposed rule also published on May 19, 2016 (81 FR 31577). The May 19, 2016, direct final rule noted that if the EPA received adverse comment on an amendment, paragraph, or section of this rule and, if that provision may be severed from the remainder of the rule, the EPA may adopt as final those provisions of the rule that are not the subject of an adverse comment.

In this instance, the EPA received an adverse comment on an amendment to the quality assurance provision in Procedure 6, related to above span requirements. 81 FR 31517. The portions of the direct final rule revising Performance Standard 18 are severable from the revisions to Procedure 6. Thus, the EPA is only withdrawing the revisions to Procedure 6. The EPA will address the comment in a subsequent final action, which will be based on the parallel proposed rule also published on May 19, 2016 (81 FR 31515). As stated in the parallel proposal, we will not institute a second comment period on this proposed action. The revisions to Performance Standard 18 in the May 19, 2016, direct final rule are not affected and will become effective on August 17, 2016, as provided in the direct final rule.

List of Subjects in 40 CFR Part 60

Environmental protection, Administrative practice and procedure, Air pollution control, Continuous emission monitoring systems, Hydrogen chloride, Performance specifications, Test methods and procedures.

Dated: July 28, 2016.
Janet G. McCabe,
Acting Assistant Administrator.

Accordingly, amendatory instruction 3 in the direct final rule published in the Federal Register on May 19, 2016, at 81 FR 31520, is withdrawn as of August 8, 2016.

[FR Doc. 2016-18682 Filed 8-5-16; 8:45 am]

BILLING CODE 6560-50-P